DEPARTMENT OF TRANSPORTATION

Federal Aviation Administration

[Docket No. FAA-2025-0850]

Agency Information Collection Activities: Requests for Comments; Clearance of a Renewed Approval of Information Collection: Remote Identification of Unmanned Aircraft Systems—Application for FAA-Recognized Identification Areas

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 10, 2025. The collection involves information required to request establishment of an FAA-recognized Identification Area (FRIA). The information to be collected will be used to determine compliance with the requirements for establishment of FRIA and to assess the information provided to determine if a FRIA can be established at the requested location.

DATES: Written comments should be submitted by October 22, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Benjamin Walsh by email at: ben.walsh@faa.gov; phone: 703-230-7664 x3275.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0784.

Title: Remote Identification of Unmanned Aircraft Systems—Application for FAA-Recognized Identification Areas.

Form Numbers: N/A.

Type of Review: Renewal of an information collection.

Background: The Federal Register Notice with a 60-day comment period soliciting comments on the following collection of information was published on June 10, 2025 (90 FR 24481). FAA-Recognized Identification Areas (FRIAs) are locations where unmanned aircraft can operate without broadcasting remote identification information. FRIAs are established through an online application process where an FAA-recognized Community-Based Organization (CBO) or educational institution submits an online application using the FAA Drone Zone system (faadronezone.faa.gov). The FAA reviews the application and determines whether a FRIA can be approved at the requested location. The locations of approved FRIAs are shown on a map using the FAA UAS Data Delivery System (UDDS) website (https://udds-faa.opendata.arcgis.com/). FRIAs are established for a period of 48-months and can be renewed.

The FRIA application includes:

(1) The name of the CBO or educational institution making the request.

(2) The name of the individual making the request on behalf of the CBO or educational institution.

(3) A declaration that the person making the request has the authority to act on behalf of the CBO or educational institution.

(4) The name and contact information, including telephone number(s), of the primary point of contact for communications with the FAA.

(5) The physical address of the proposed FRIA.

(6) The geographic boundaries of the proposed FRIA.

(7) If applicable, a copy of any existing FAA letter of agreement regarding the flying site.

(8) Description of the intended purpose of the FRIA and why the proposed FAA-recognized identification area is necessary for that purpose.

(9) Information about the intended usage of the FRIA, including whether the FRIA is located at an existing or new flying site, the type of UAS expected to operate at the FRIA, and the average duration and frequency of UAS flights.

Respondents: Persons authorized to submit an application to establish a FRIA on behalf of an FAA-recognized Community-Based Organization or educational institution.

Frequency: On-occasion, with renewal applications submitted every 48-months.

Estimated Average Burden per Response: 2 hours per response.

Estimated Total Annual Burden: One response per respondent per year. Approximately 2,008 total responses per year for all respondents for a total annual estimated burden of 4,016 hours.

Issued in Washington, DC, on September 17, 2025.
Marcus Cunningham,
Manager, Emerging Technologies Division, AFS-700.

[FR Doc. 2025-18227 Filed 9-19-25; 8:45 am]

BILLING CODE 4910-13-P